DEPARTMENT OF HEALTH AND HUMAN SERVICES

National Institutes of Health

National Institute of Dental & Craniofacial Research; Notice of Meeting

Pursuant to section 1009 of the Federal Advisory Committee Act, as amended, notice is hereby given of a meeting of the National Advisory Dental and Craniofacial Research Council.

The meeting will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Advisory Dental and Craniofacial Research Council.

Date: April 18, 2025.

Closed: 11:00 a.m. to 12:00 p.m.

Agenda: To review and evaluate BSC report to council.

Address: National Institute of Dental & Craniofacial Research, 31 Center Drive, Bethesda, MD 20892.

Meeting Format: Virtual Meeting.

Closed: 12:00 p.m. to 3:00 p.m.

Agenda: To review and evaluate grant applications.

Address: National Institute of Dental & Craniofacial Research, 31 Center Drive, Bethesda, MD 20892.

Meeting Format: Virtual Meeting.

Contact Person: Yasaman Shirazi, Ph.D., Branch Chief, National Institute of Dental & Craniofacial Research, National Institutes of Health, 31 Center Drive, Bethesda, MD 20892, 301-594-5593, email: yasaman.shirazi@nih.gov.

Information is also available on the Institute's/Center's home page: https://www.nidcr.nih.gov/about-us/advisory-committees/advisory-council, where an agenda and any additional information for the meeting will be posted when available.

(Catalogue of Federal Domestic Assistance Program No. 93.121, Oral Diseases and Disorders Research, National Institutes of Health, HHS)

Dated: March 19, 2025.
Bruce A. George,
Program Analyst, Office of Federal Advisory Committee Policy.

[FR Doc. 2025-04969 Filed 3-24-25; 8:45 am]

BILLING CODE 4140-01-P